DEPARTMENT OF ENERGY

Federal Energy Regulatory Commission

[Project No. 2232-522]

Duke Power Company, LLC; North Carolina and South Carolina; Notice of Availability of the Final Environmental Impact Statement for the Catawba-Wateree Hydroelectric Project

July 23, 2009.

In accordance with the National Environmental Policy Act of 1969 and the Federal Energy Regulatory Commission's (Commission) regulations, 18 CFR part 380 (Order No. 486, 52 FR 47897), the Office of Energy Projects has reviewed the application for license for the Catawba-Wateree Hydroelectric Project (FERC No. 2232), located on the Catawba River in the counties of Burke, McDowell, Caldwell, Catawba, Alexander, Iredell, Mecklenburg, Lincoln, and Gaston in North Carolina, and the counties of York, Lancaster, Chester, Fairfield, and Kershaw in South Carolina, and has prepared a Final Environmental Impact Statement (final EIS) for the project.

The final EIS contains staff evaluations of the applicant's proposal and the alternatives for relicensing the Catawba-Wateree Project. The final EIS documents the views of governmental agencies, non-governmental organizations, affected Indian tribes, the public, the license applicant, and Commission staff.

A copy of the final EIS is available for review in the Commission's Public Reference Branch, Room 2A, located at 888 First Street, NE., Washington, DC 20426. The final EIS also may be viewed on the Commission's Web site at http://www.ferc.gov under the eLibrary link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via e-mail of new filings and issuances related to this or other pending projects. For assistance, contact FERC Online Support.

For further information, contact Sean Murphy at (202) 502-6145 or at sean.murphy@ferc.gov.

Kimberly D. Bose,
Secretary.

[FR Doc. E9-18154 Filed 7-29-09; 8:45 am]

BILLING CODE 6717-01-P